DEPARTMENT OF COMMERCE

National Oceanic and Atmospheric Administration

[I.D. 021805B]

Endangered Species; Permits No. 1501 and 1506

AGENCY: National Marine Fisheries Service (NMFS), National Oceanic and Atmospheric Administration (NOAA), Commerce.

ACTION: Issuance of permits.

SUMMARY: Notice is hereby given that two applicants have been issued a permit to take endangered and threatened sea turtles for purposes of scientific research.

ADDRESSES: The permits and related documents are available for review upon written request or by appointment in the following office(s):

Permits, Conservation and Education Division, Office of Protected Resources, NMFS, 1315 East-West Highway, Room 13705, Silver Spring, MD 20910; phone (301)713-2289; fax (301)427-2521; and

Assistant Regional Administrator for Protected Resources, Southeast Region, NMFS, 263 13th Avenue South, St. Petersburg, FL 33701 (tel: 727/824-5312, fax 727/824-5517.

FOR FURTHER INFORMATION CONTACT: Ruth Johnson or Patrick Opay, (301)713-2289.

SUPPLEMENTARY INFORMATION: On October 8, 2004, notice was published in the Federal Register (69 FR 60363) that a request for a scientific research permit to take endangered and threatened sea turtles had been submitted by the above-named individuals. The requested permits have been issued under the authority of the Endangered Species Act of 1973, as amended (ESA; 16 U.S.C. 1531 et seq.), and the regulations governing the taking, importing, and exporting of endangered and threatened species (50 CFR parts 222-226).

Dr. Allen Foley, Fish and Wildlife Research Institute, Florida Fish and Wildlife Conservation Commission, 6134 Authority Avenue, Building 200, Jacksonville, FL 32221: Permit No. 1501 authorizes Dr. Foley to take listed turtles in Florida Bay. Researchers may annually capture 175 loggerhead (Caretta caretta), 20 green (Chelonia mydas), 10 hawksbill (Eretmochelys imbricata) and 20 Kemp's ridley (Lepidochelys kempii) sea turtles by hand to continue long-term studies. Researchers may also annually capture an additional 50 adult loggerhead sea turtles by hand for studies of reproductive movements and behavior from southeast U.S. foraging grounds. Animals would be weighed, measured, examined, photographed, flipper and passive integrated transponder (PIT) tagged, paint marked on carapace, blood sampled, and released. The additional 50 loggerhead turtles would also be skin sampled, transported to a lab for ultrasound and laparoscopy, held 24 hours, testicular biopsy sampled, and released. A subset of 15 of the 50 loggerheads may be tagged with satellite, sonic, and time-depth recorder (TDR) transmitters.

Blair E. Witherington, Ph.D., (Principal Investigator), Florida Fish and Wildlife Conservation Commission, Fish and Wildlife Research Institute, Melbourne Beach Field Laboratory, 9700 South A1A, Melbourne Beach, FL 32951: Permit No. 1506 authorizes Dr. Witherington to annually capture 250 loggerhead, 10 green, 5 hawksbill, 2 Kemp's ridley, and 2 leatherback (Dermochelys coriacea) neonate and juvenile sea turtles in the Florida Atlantic Ocean and Gulf coasts to continue long-term studies. Turtles would be captured using a long handled dip net, handled, measured and released. A subset of loggerhead turtles would be transported to a lab and examined with a veterinary high resolution magnetic resonance interferometry (MRI) or computerized tomography (CT) exam, held for 3-4 days and released to determine their level of anthropogenic debris ingestion.

Issuance of this permit, as required by the ESA, was based on a finding that such permit (1) was applied for in good faith, (2) will not operate to the disadvantage of such endangered or threatened species, and (3) is consistent with the purposes and policies set forth in section 2 of the ESA.

Dated: March 23, 2005.
Stephen L. Leathery,
Chief, Permits, Conservation and Education Division, Office of Protected Resources, National Marine Fisheries Service.

[FR Doc. 05-7817 Filed 4-19-05; 8:45 am]

BILLING CODE 3510-22-S